DEPARTMENT OF COMMERCE

Foreign-Trade Zones Board

[S-107-2014]

Foreign-Trade Zone 158—Vicksburg/Jackson, Mississippi, Application for Subzone, Southern Motion, Inc., Pontotoc and Baldwyn, Mississippi

An application has been submitted to the Foreign-Trade Zones (FTZ) Board by the Greater Mississippi Foreign-Trade Zone, Inc., grantee of FTZ 158, requesting subzone status for the facilities of Southern Motion, Inc., located in Pontotoc and Baldwyn, Mississippi. The application was submitted pursuant to the provisions of the Foreign-Trade Zones Act, as amended (19 U.S.C. 81a-81u), and the regulations of the FTZ Board (15 CFR part 400). It was formally docketed on August 7, 2014.

The proposed subzone (62.5 acres total) would consist of the following sites: Site 1 (50 acres, 2 parcels)—Plant #1 located at 298 Henry Southern Drive and Plant #2 located at 195 Henry Southern Drive in Pontotoc (Pontotoc County); and, Site 2 (12.5 acres)—Plant #3 located at 309 Robert M. Coggins Jr. Drive in Baldwyn (Prentiss County). The proposed subzone would be subject to the existing activation limit of FTZ 158. A notification of proposed production activity at the facilities has been docketed and is being processed separately (B-45-2014).

In accordance with the FTZ Board's regulations, Camille Evans of the FTZ Staff is designated examiner to review the application and make recommendations to the Executive Secretary.

Public comment is invited from interested parties. Submissions shall be addressed to the FTZ Board's Executive Secretary at the address below. The closing period for their receipt is September 22, 2014. Rebuttal comments in response to material submitted during the foregoing period may be submitted during the subsequent 15-day period to October 7, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: August 7, 2014.
Andrew McGilvray,
Executive Secretary.

[FR Doc. 2014-19149 Filed 8-12-14; 8:45 am]

BILLING CODE 3510-DS-P